DEPARTMENT OF LABOR

Employment and Training Administration

[TA-W-61,409]

Delphi Corporation, Powertrain Operations, Including On-Site Leased Workers from Trison Business Solutions, Inc., Bartech, Kelly Services, Inc., Aerotek, And EGW Personnel Staffing, Rochester, New York; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on June 8, 2007, applicable to workers of Delphi Corporation, Powertrain Operations, Rochester, New York. The notice was published in the Federal Register on June 22, 2007 (72 FR 34482). The certification was amended on September 19, 2008 to include on-site leased workers from Trison Business Solutions, Inc. and Bartech. The notice was published in the Federal Register on September 24, 2008 (73 FR 55138).

At the request of the State agency, the Department reviewed the certification for workers of the subject firm. The workers are engaged in the production of fuel systems and emission components; specifically cruise control housings, integrated air fuel modules, canisters, linear exhaust gas recyclers throttle bodies and pressure regulators.

New information shows that workers leased from Kelly Services, Inc., Aerotek and EGW Personnel Staffing were employed on-site at the Rochester, New York location of Delphi Corporation, Powertrain Operations. The Department has determined that these workers were sufficiently under the control of the subject firm to be considered leased workers.

Based on these findings, the Department is amending this certification to include leased workers from Kelly Services, Inc., Aerotek, and EGW Personnel Staffing working on-site at the Powertrain Operation, Rochester, New York location of the subject firm.

The amended notice applicable to TA-W-61,409 is hereby issued as follows:

“All workers of Delphi Corporation, Powertrain Operations, including on-site leased workers from Trison Business Solutions, Inc., Bartech, Kelly Services, Inc., Aerotek, and EGW Personnel Staffing, Rochester, New York, who became totally or partially separated from employment on or after April 24, 2006, through June 8, 2009, are eligible to apply for adjustment assistance under Section 223 of the Trade Act of 1974, and are also eligible to apply for alternative trade adjustment assistance under Section 246 of the Trade Act of 1974.”

Signed at Washington, DC, this 17th day of December 2008.
Linda G. Poole,
Certifying Officer, Division of Trade Adjustment Assistance.

[FR Doc. E8-30915 Filed 12-29-08; 8:45 am]

BILLING CODE 4510-FN-P